DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 9, 2011. Address written comments to Statutory Import Programs Staff, Room 3720, U.S. Department of Commerce, Washington, DC 20230. Applications may be examined between 8:30 a.m. and 5 p.m. at the U.S. Department of Commerce in Room 3720.

Docket Number: 11-039. Applicant: Virginia Polytechnic Institute, Department of Engineering Science and Mechanics, 225 Norris Hall MC 0219, Blacksburg, VA 24061. Instrument: Nano test platform. Manufacturer: Micro Materials Ltd., UK. Intended Use: The instrument will be used to study the mechanical behavior of metals (steel, aluminum, brass copper), ceramics, and polymers (polyethylene, epoxies) under different loadings such as compression, fatigue, creep, impact, scratch and friction. Justification for Duty-Free Entry: No instruments of the same general category being manufactured in the United States support the technical requirements for high temperature nanoindentations, nanoimpact, nanofatigue and wet stage nanoindentation. Application accepted by Commissioner of Customs: June 28, 2011.

Docket Number: 11-040. Applicant: University of Colorado at Boulder, Attn: Stuart Littlefield, Procurement Service Center, 1800 Grant Street, Suite 500, Denver, CO 80202. Instrument: Low-temperature atomic force microscope. Manufacturer: attocube systems AG, Germany. Intended Use: The instrument will be used to study nano-scale domain formation associated with phase transitions, transition temperatures, and domain size and order, of transition metal oxides, especially magnetoelectric multiferroics, manganites, vanadates, and superconductors. Justification for Duty-Free Entry: No instruments of the same general category, or comparable instruments that could otherwise be used for the intended purpose, are being manufactured in the United States. Application accepted by Commissioner of Customs: June 28, 2011.

Docket Number: 11-041. Applicant: Washington University, 660 South Euclid Avenue, Saint

Louis, MO 63110-1093. Instrument: Transmission electron microscope. Manufacturer: JEOL Ltd., Japan. Intended Use: The instrument will be used to provide dependable ultrastructural analysis to NIH-sponsored investigators, extending their capacity to ask disease-related and basic science questions with a more sophisticated approach to analyzing the relationship of subcellular elements. Justification for Duty-Free Entry: No instruments of the same general category, or comparable instruments that could otherwise be used for the intended purpose, are being manufactured in the United States. Application accepted by Commissioner of Customs: June 30, 2011.

Dated: July 12, 2011.
Gregory W. Campbell,
Director, Subsidies Enforcement Office, Office of Policy, Import Administration.

[FR Doc. 2011-18298 Filed 7-19-11; 8:45 am]

BILLING CODE 3510-DS-P